DEPARTMENT OF COMMERCE

National Oceanic and Atmospheric Administration

[I.D. 040400C]

Fisheries Off West Coast States and in the Western Pacific; Northern Anchovy Fishery; Correction

AGENCY: National Marine Fisheries Service (NMFS), National Oceanic and Atmospheric Administration (NOAA), Commerce.

ACTION: Correction to announcement of receipt of an application for an exempted fishing permit (EFP).

SUMMARY: This document contains a correction to an announcement of receipt of an application for an EFP for northern anchovy in an area off San Francisco ordinarily closed to vessels fishing to reduce the catch into products such as fish meal and oil, that was published in the Federal Register on May 3, 2000.

FOR FURTHER INFORMATION CONTACT: James Morgan at 310-980-4036.

SUPPLEMENTARY INFORMATION: On May 3, 2000, at 65 FR 25709, NMFS announced receipt of an application for an EFP to harvest northern anchovy off the coast of California in a closed area off of Farallon Islands. That document contained incorrect dates for the Pacific Fishery Management Council meeting.

Correction

On page 25709, in the second column, in the second complete paragraph, in the second line, “June 23-26, 2000,” should read “June 26-30, 2000”.

Dated: May 12, 2000.
Bruce C. Morehead,
Acting Director, Office of Fisheries Management, National Marine Fisheries Service.

[FR Doc. 00-12426 Filed 5-16-00; 8:45 am]

BILLING CODE 3510-22-F